SURFACE TRANSPORTATION BOARD

[Docket No. AB 33 (Sub-No. 327X)]

Union Pacific Railroad Company—Abandonment and Discontinuance of Service Exemption—in Cerro Gordo County, Iowa

Union Pacific Railroad Company (UP) has filed a verified notice of exemption under 49 CFR pt. 1152 subpart F—Exempt Abandonments and Discontinuance of Service for UP to: (1) Abandon a 2.0-mile portion of UP's Rockwell Industrial Lead in Mason City, Iowa, between milepost 155.5 near Elm Street and milepost 157.5 near 19th Street; and (2) discontinue service over a 0.5-mile portion of UP's Rockwell Industrial Lead near Swifts, Iowa, between milepost 157.5 and milepost 158.0, near Swifts, Iowa (the Line).¹ The Line is entirely within Cerro Gordo County, Iowa, and traverses United States Postal Service Zip Code 50401.

¹ In the verified notice, UP states that after the proposed abandonment, UP will continue to provide rail service from the remaining portion of the Rockwell Industrial Lead, as well as the Mason City and Albert Lea Subdivisions of the Spine Line, which lie within one mile of the Line.

UP has certified that: (1) No local or overhead traffic has moved over the Line for at least two years; (2) there is no need to reroute any traffic over other lines; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7(c) (environmental report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will become effective on December 1, 2017, unless stayed pending reconsideration. Petitions to stay that do not involve environmental issues,² formal expressions of intent to file an OFA under 49 CFR 1152.27(c)(2),³ and interim trail use/rail banking requests under 49 CFR 1152.29 must be filed by November 9, 2017. Petitions to reopen or requests for public use conditions under 49 CFR 1152.28 must be filed by November 21, 2017, with the Surface Transportation Board, 395 E Street SW., Washington, DC 20423-0001.

² The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

³ Each OFA must be accompanied by the filing fee, which is currently set at $1,800. See Regulations Governing Fees for Servs. Performed in Connection with Licensing & Related Servs.—2017 Update, EP 542 (Sub-No. 25), slip op. App. C at 20 (STB served July 28, 2017).

A copy of any petition filed with the Board should be sent to UP's representative: Jeremy M. Berman, General Attorney, 1400 Douglas Street, Stop 1580, Omaha, NE 68179.

If the verified notice contains false or misleading information, the exemption is void ab initio.

UP has filed a combined environmental and historic report that addresses the effects, if any, of the abandonment on the environment and historic resources. OEA will issue an environmental assessment (EA) by November 6, 2017. Interested persons may obtain a copy of the EA by writing to OEA (Room 1100, Surface Transportation Board, Washington, DC 20423-0001) or by calling OEA at (202) 245-0305. Assistance for the hearing impaired is available through the Federal Information Relay Service at (800) 877-8339. Comments on environmental and historic preservation matters must be filed within 15 days after the EA becomes available to the public.

Environmental, historic preservation, public use, or interim trail use/rail banking conditions will be imposed, where appropriate, in a subsequent decision.

Pursuant to the provisions of 49 CFR 1152.29(e)(2), UP shall file a notice of consummation with the Board to signify that it has exercised the authority granted and fully abandoned the Line. If consummation has not been effected by UP's filing of a notice of consummation by November 1, 2018, and there are no legal or regulatory barriers to consummation, the authority to abandon will automatically expire.

Board decisions and notices are available on our Web site at “WWW.STB.GOV.”

Decided: October 26, 2017.
By the Board, Scott M. Zimmerman, Acting Director, Office of Proceedings.
Brendetta S. Jones,
Clearance Clerk.

[FR Doc. 2017-23765 Filed 10-31-17; 8:45 am]

BILLING CODE 4915-01-P